DEPARTMENT OF JUSTICE

[OMB Number 1125-0006]

Agency Information Collection Activities; Proposed Collection Comments Requested; Notice of Entry of Appearance as Attorney or Representative Before the Immigration Court (Form EOIR-28)

AGENCY: Executive Office for Immigration Review, Department of Justice.

ACTION: 30-Day notice.

SUMMARY: The Department of Justice (DOJ), Executive Office for Immigration Review (EOIR), will be submitting the following information collection request to the Office of Management and Budget (OMB) for review and approval in accordance with the Paperwork Reduction Act of 1995.

DATES: Comments are encouraged and will be accepted for an additional 30 days until January 10, 2022.

ADDRESSES: Written comments and recommendations for the proposed information collection should be sent within 30 days of publication of this notice to www.reginfo.gov/public/do/PRAMain. Find this particular information collection by selecting “Currently under 30-day Review—Open for Public Comments” or by using the search function.

If you need a copy of the proposed information collection or additional information, please contact Lauren Alder Reid, Assistant Director, Office of Policy, Executive Office for Immigration Review, 5107 Leesburg Pike, Suite 2500, Falls Church, VA 22041, telephone: (703) 305-0289.

SUPPLEMENTARY INFORMATION: Written comments and suggestions from the public and affected agencies concerning the proposed collection of information are encouraged. Your comments should address one or more of the following four points:

—Evaluate whether the proposed collection of information is necessary for the proper performance of the functions of the Executive Office for Immigration Review, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Renewal, with change, of a currently approved collection.

2. The Title of the Form/Collection: Notice of Entry of Appearance as Attorney or Representative Before the Immigration Court.

3. The agency form number, if any, and the applicable component of the Department sponsoring the collection: The form number is EOIR-28; the sponsoring component is the Executive Office for Immigration Review, United States Department of Justice.

4. Affected public who will be asked or required to respond, as well as a brief abstract: Primary: Attorneys and qualified representatives notifying the Immigration Court that they are representing a respondent in immigration proceedings. Other: None. Abstract: This information collection is necessary to allow an attorney or representative to notify the Immigration Court that he or she is representing a respondent before the Immigration Court.

5. An estimate of the total number of respondents and the amount of time estimated for an average respondent to respond: It is estimated that 622,689 respondents will complete the form annually with an average of 6 minutes per response.

6. An estimate of the total public burden (in hours) associated with the collection: The estimated public burden associated with this collection is 62,269 hours. It is estimated that respondents will take 6 minutes to complete the form.

If additional information is required contact: Melody Braswell, Department Clearance Officer, United States Department of Justice, Justice Management Division, Policy and Planning Staff, Two Constitution Square, 145 N Street NE, 3E.405B, Washington, DC 20530.

Dated: December 7, 2021.
Melody D. Braswell,
Department Clearance Officer for PRA, U.S. Department of Justice.

[FR Doc. 2021-26808 Filed 12-9-21; 8:45 am]

BILLING CODE 4410-30-P